DEPARTMENT OF VETERANS AFFAIRS

Privacy Act of 1974; System of Records

AGENCY: Department of Veterans Affairs.

ACTION: Rescindment of systems of records notices.

SUMMARY: The Department of Veterans Affairs (VA) is rescinding nine outdated systems of records.

DATES: VA has ceased maintaining the systems of records listed in this notice. Rescindment is effective November 6, 2017.

ADDRESSES: Written comments may be submitted through www.Regulations.gov; by mail or hand-delivery to Director, Regulation Policy and Management (00REG), Department of Veterans Affairs, 810 Vermont Ave. NW., Room 1064, Washington, DC 20420; or by fax to (202) 273-9026 (this is not a toll-free number). Comments should indicate that they are submitted in response to “Rescindment of Systems of Records Notices”. All comments received will be available for public inspection in the Office of Regulation Policy and Management, Room 1063B, between the hours of 8:00 a.m. and 4:30 p.m., Monday through Friday (except holidays). Please call (202) 461-4902 for an appointment (this is not a toll-free number.) In addition, comments may be viewed online at www.Regulations.gov.

FOR FURTHER INFORMATION CONTACT: VA Privacy Service (005P1A), Office of Privacy Information and Identity Protection, Office of Privacy and Risk, Office of Information and Technology, Department of Veterans Affairs, 810 Vermont Ave. NW., Washington, DC 20420, (202) 273-5070 (this is not a toll-free number).

SUPPLEMENTARY INFORMATION: The Privacy Act of 1974, U.S.C. 552a(e)(1) provides that an agency may only collect or maintain in its records information about individuals that is relevant and necessary to accomplish a purpose that is required by statute or executive order. VA has stopped maintaining the systems listed and expunged the records in accordance with the requirements in the System of Records Notices and the applicable records retention or disposition schedules approved by the National Archives and Records Administration.

System Names, Numbers and Histories

1. Department of Medicine and Surgery Engineering Employee Management Information Records—VA (07VA138). Categories of individuals covered by the system were VA engineering employees with the Department of Medicine and Surgery. Records in the system included personal identification information, data on cost center and hourly wage rate, and work location. System was published in the Federal Register prior to 1995 and was revised in part on October 19, 2009, at 74 FR 53585.

2. Individual Requests for Information from Appellate Records—VA (12VA01). Categories of individuals covered by the system included persons requesting information under the Freedom of Information Act and the Privacy Act. This system contained requests for information, responses to requests, and loose-leaf log books and was published in the Federal Register prior to 1995.

3. Personnel Registration under Controlled Substance Act—VA (28VA119). Categories of individuals covered by the system were health practitioners authorized to prescribe drugs under the Controlled Substance Act. Categories of records in the system were registration card records containing the information necessary for verification of employee control under the Controlled Substance Act; employee name, social security number, and signature; and Drug Enforcement Agency control number assigned by either the State or the VA, depending on local policy as required by the Act. This system was published in the Federal Register prior to 1995 and was revised in part on October 19, 2009, at 74 FR 53585.

4. Electronic Document Management System (EDMS)—VA (92VA045): Records were maintained in electronic and paper form depending on the nature of the materials received, background information compiled, and/or response sent. Each may have included the names, social security numbers, mailing addresses, telephone numbers, and other personal identifiers routinely required to identify a correspondent or subject. Other record items maintained may have included personal facts about medical, financial, or memorial benefits related to the correspondent, Veteran or beneficiary. Internal VA records may have included, but were not limited to, VA administrative, financial, and personnel information. Records may have included scanned documents, letters, emails, faxes, Internet documents, tracking sheets, notes, and documentation of telephone calls and/or meetings with an individual. Records were also used to process replies to correspondence and other inquiries originating from Congress; other Federal agencies; state, local, and tribal governments; foreign governments; Veterans Service Organizations; representatives of private or commercial entities; Veterans and their beneficiaries; private citizens; and VA employees. The records were also used for some categories of correspondence and records internal to VA. This system was published in the Federal Register on May 2, 2000, at 65 FR 25534.

5. Enterprise Project Management (EPM) Tool—VA (122VA005P3). Categories of individuals covered by this system included current and former VA employees, contractors, or subcontractors acting in the capacity of project managers and project team members in Information Technology (IT) projects. The records were used to track, manage, and report on the development of IT systems within VA in order to make informed decisions and deliver projects on time through the capture and re-use of best practices. This system was published in the Federal Register on October 12, 2006, at 71 FR 60232.

6. Center for Veterans Enterprise (CVE) VA VetBiz Vendor Information Pages (VIP) (123VA00VE). Categories of individuals covered by this system included Veterans who had applied to have their small businesses included in the VetBiz database, and, if deceased, their surviving spouses. The records in this system included (1) identifying information on Veterans and their surviving spouses who applied to have their businesses listed in the VetBiz database, including names and social security numbers, and (2) information documenting the eligibility of Veterans to have their businesses listed in the VetBiz database, including service-connected status and information concerning ownership of the businesses listed in VetBiz, including certifications, and security clearances held. This system was published in the Federal Register on February 21, 2008, at 73 FR 9620.

7. Enterprising Veterans' Information Center (EVIC)—VA (124VA00VE). The system recorded the names and numbers of individuals calling the Center for Veterans Enterprise (CVE) for advice and assistance, as well as any voice messages. The system of records provided integrated customer service for the Center's telephone and operational business communication needs including, but not limited to, automated switchboard referral to CVE resource partners and automated electronic mail responses and referrals. This system was published in the Federal Register on July 21, 2003, at 68 FR 43258.

8. Chemical and Biological Agent Exposure Database—VA (128VA008A). Categories of individuals covered by this system included Veterans identified by the Department of Defense (DoD) or another government agency as having been exposed to any type of chemical (including psycho-chemical) and biological agents while on active duty. The records included personal identifiers, residential and professional contact data, population demographics, military service-related data, financial-related data, claims processing codes and information, and other VA and non-VA Federal benefit information. Additionally, some records may have contained DoD health care-related data or VA-originated health care information. The purpose of the system was to measure and evaluate on a continuing basis all programs authorized under title 38, United States Code, including analysis and review of policy and planning issues affecting VA programs, in order to support legislative, regulatory, and policy recommendations, initiatives, and decisions affecting VA programs and activities. This system was published in the Federal Register on April 19, 2007, at 72 FR 19770.

9. Inspector General Oversight Data Extracts—VA (154VA53C). The records in this system of records consisted of data, and extracts of data, provided from master databases under VA jurisdiction including, but not limited to, the Veterans Benefits Administration, Veterans Health Administration, and the National Cemetery Administration. Data extracts may also have been sourced from databases provided by DoD as well as other Federal and State agencies. The records may have included personal identifiers, residential and professional contact data, population demographics, military service-related data, financial-related data, claims processing codes and information, and other VA and non-VA information. The records in this system of records were used for qualitative, quantitative, and other analyses used to support Office of Inspector General (OIG) reviews, investigations, audits, and healthcare inspections. This system was published in the Federal Register, on March 16, 2009, at 74 FR 11190.

Signing Authority

The Secretary of Veterans Affairs, or designee, approved this document and authorized the undersigned to sign and submit the document to the Office of the Federal Register for publication electronically as an official document of the Department of Veterans Affairs. John Oswalt, Executive Director, Privacy Service approved this document on for publication on November 1, 2017.

Dated: November 1, 2017.
Kathleen M. Manwell,
Program Analyst, VA Privacy Service, Office of Quality, Privacy, and Risk, Office of Information and Technology, Department of Veterans Affairs.

[FR Doc. 2017-24076 Filed 11-3-17; 8:45 am]

BILLING CODE 8320-01-P